DEPARTMENT OF TRANSPORTATION

Federal Aviation Administration

14 CFR Part 97

[Docket No. 30425; Amdt. No. 3106]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective October 15, 2004. The compliance date for each SIAP is specified in the amendatory provisions.

The incorporation by reference of certain publications listed in the regulations is approved by the Director of the Federal Register as of October 15, 2004.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4.The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on September 23, 2004.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97— STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective October 28, 2004

San Francisco, CA, San Francisco Intl, LDA PRM RWY 28R, Orig-A, (Simultaneous Close Parallel)

San Francisco, CA, San Francisco Intl, ILS PRM RWY 28L, Orig-A (Simultaneous Close Parallel)

Claremore, OK, Claremore Regional, RNAV (GPS) RWY 35, Amdt 1

Claremore, OK, Claremore Regional, VOR/DME-A, Amdt 2

Claremore, OK, Claremore Regional, VOR/DME-B, Amdt 3

Bennington, VT, William H. Morse State, VOR RWY 13, Orig

Bennington, VT, William H. Morse State, VOR-A, Amdt 9, CANCELLED

Bennington, VT, William H. Morse State, RNAV (GPS) RWY 13, Orig-A

* * * Effective November 25, 2004

Nulato, AK, Nulato, RNAV (GPS) RWY 2, Orig

Nulato, AK, Nulato, RNAV (GPS) RWY 20, Orig

Apple Valley, CA, Apple Valley, RNAV (GPS) RWY 18, Orig-A

Hemet, CA, Hemet-Ryan, RNAV (GPS) RWY 5, Orig-A

Cloverdale, CA, Cloverdale Muni, RNAV (GPS) RWY 32, Orig-A

Napa, CA, Napa County, RNAV (GPS) RWY 6, Orig-A

Ramona, CA, Ramona, RNAV (GPS) RWY 9, Orig-A

San Carlos, CA, San Carlos, RNAV (GPS) RWY 30, Orig-A

San Francisco, CA, San Francisco Intl, RNAV (GPS) Z RWY 10R, Orig-B

San Francisco, CA, San Francisco Intl, RNAV (GPS) Z RWY 19R, Orig-B

San Francisco, CA, San Francisco Intl, RNAV (GPS) Z RWY 19L, Orig-B

San Francisco, CA, San Francisco Intl, RNAV (GPS) RWY 28L, Orig-B

San Francisco, CA, San Francisco Intl, RNAV (GPS) RWY 28R, Amdt 1B

San Jose, CA, Norman Y. Mineta San Jose International, RNAV (GPS) RWY 30R, Orig-B

San Jose, CA, Norman Y. Mineta San Jose International, RNAV (GPS) RWY 29, Orig-B

Susanville, CA, Susanville Muni, RNAV (GPS) RWY 29, Orig-A

Susanville, CA, Susanville Muni, RNAV (GPS)-A, Orig-A

St Marys, GA, St Marys, RNAV (GPS) RWY 13, Orig

St Marys, GA, St Marys, RNAV (GPS) RWY 31, Orig

Agana, GU, Guam International, RNAV (GPS) RWY 6R, Orig-A

Agana, GU, Guam International, RNAV (GPS) Z RWY 6L, Orig-B

Agana, GU, Guam International, RNAV (GPS) RWY 24R, Orig-A

Agana, GU, Guam International, RNAV (GPS) RWY 24L, Orig-A

Lihue, HI, Lihue, RNAV (GPS) RWY 17, Orig-A

Lihue, HI, Lihue, RNAV (GPS) RWY 21, Orig-A

Fort Wayne, IN, Fort Wayne Intl, VOR OR TACAN RWY 23, Amdt 13

Indianapolis, IN, Greenwood Muni, NDB RWY 1, Amdt 3

Indianapolis, IN, Greenwood Muni, VOR-A, Amdt 5

Indianapolis, IN, Greenwood Muni, RNAV (GPS) RWY 1, Orig

Indianapolis, IN, Greenwood Muni, RNAV (GPS) RWY 19, Orig

Indianapolis, IN, Greenwood Muni, GPS RWY 19, Orig, CANCELLED

Washington, IN, Daviess County, NDB RWY 18, Amdt 7

Washington, IN, Daviess County, RNAV (GPS) RWY 18, Orig

Washington, IN, Daviess County, GPS RWY 18, Orig, CANCELLED

Hyannis, MA, Barnstable Muni-Boardman/Polando Field, VOR RWY 6, Amdt 8

Grand Haven, MI, Grand Haven Meml Airpark, VOR-A, Amdt 16

Grand Haven, MI, Grand Haven Meml Airpark, VOR/DME RNAV RWY 27, Amdt 6

Grand Haven, MI, Grand Haven Meml Airpark, RNAV (GPS) RWY 9, Orig

Grand Haven, MI, Grand Haven Meml Airpark, RNAV (GPS) RWY 27, Orig

Hancock, MI, Houghton County Memorial, VOR RWY 13, Amdt 16

Hancock, MI, Houghton County Memorial, RNAV (GPS) RWY 13, Orig

Clinton, NC, Sampson County, RNAV (GPS) RWY 6, Orig

Clinton, NC, Sampson County, RNAV (GPS) RWY 24, Orig

Clinton, NC, Sampson County, LOC RWY 6, Amdt 1

Clinton, NC, Sampson County, NDB RWY 6, Amdt 6

Clinton, NC, Sampson County, VOR/DME-A, Amdt 5

Clinton, NC, Sampson County, GPS RWY 6, Orig, CANCELLED

Clinton, NC, Sampson County, GPS RWY 24, Orig, CANCELLED

Greensboro, NC, Piedmont Triad Intl, RNAV (GPS) RWY 23, Amdt 1

Greensboro, NC, Piedmont Triad Intl, RNAV (GPS) RWY 5, Amdt 1

Greensboro, NC, Piedmont Triad Intl, RNAV (GPS) RWY 14, Amdt 1

Greensboro, NC, Piedmont Triad Intl, RNAV (GPS) RWY 32, Amdt 1

Fargo, ND, Hector Intl, RNAV (GPS) RWY 9, Orig

Fargo, ND, Hector Intl, RNAV (GPS) RWY 18, Orig

Fargo, ND, Hector Intl, RNAV (GPS) RWY 27, Orig

Fargo, ND, Hector Intl, RNAV (GPS) RWY 36, Orig

Fargo, ND, Hector Intl, RNAV (GPS) RWY 8, Orig, CANCELLED

Fargo, ND, Hector Intl, RNAV (GPS) RWY 17, Orig, CANCELLED

Fargo, ND, Hector Intl, RNAV (GPS) RWY 26, Orig-A, CANCELLED

Fargo, ND, Hector Intl, RNAV (GPS) RWY 35, Orig-B, CANCELLED

Fargo, ND, Hector Intl, ILS OR LOC RWY 18, Orig

Fargo, ND, Hector Intl, ILS OR LOC RWY 36, Orig

Fargo, ND, Hector Intl, ILS RWY 17, Amdt 4D, CANCELLED

Fargo, ND, Hector Intl, ILS RWY 35, Amdt 32E, CANCELLED

Fargo, ND, Hector Intl, NDB RWY 17, Amdt 14C, CANCELLED

Fargo, ND, Hector Intl, VOR OR TACAN RWY 35, Amdt 12C, CANCELLED

Fargo, ND, Hector Intl, NDB RWY 18, Orig

Fargo, ND, Hector Intl, VOR/DME OR TACAN RWY 18, Amdt 1

Fargo, ND, Hector Intl, VOR OR TACAN RWY 36, Orig

Fargo, ND, Hector Intl, RADAR-1, Amdt 11

Cleveland, OH, Cleveland-Hopkins Intl, ILS OR LOC RWY 6R, Amdt 19B, ILS RWY 6R (CAT II), Amdt 19B, ILS RWY 6R (CAT III), Amdt 19B

Kent, OH, Kent State University, RNAV (GPS) RWY 1, Orig

Kent, OH, Kent State University, RNAV (GPS) RWY 19, Orig

Kent, OH, Kent State University, NDB RWY 1, Amdt 12

Kent, OH, Kent State University, VOR-A, Amdt 13

Kent, OH, Kent State University, GPS RWY 19, Orig, CANCELLED

Norman, OK, University of Oklahoma Westheimer, ILS OR LOC RWY 17, Orig

College Station, TX, Easterwood Field, RNAV (GPS) RWY 34, Orig

College Station, TX, Easterwood Field, RNAV (GPS) RWY 28, Orig

College Station, TX, Easterwood Field, RNAV (GPS) RWY 10, Orig

College Station, TX, Easterwood Field, RNAV (GPS) RWY 16, Orig

College Station, TX, Easterwood Field, ILS OR LOC RWY 34, Amdt 12

College Station, TX, Easterwood Field, NDB RWY 34, Amdt 12

College Station, TX, Easterwood Field, VOR OR TACAN RWY 10, Amdt 19

College Station, TX, Easterwood Field, LOC BC RWY 16, Amdt 6

College Station, TX, Easterwood Field, VOR/DME RWY 28, Amdt 13

College Station, TX, Easterwood Field, GPS RWY 10, Orig-A, CANCELLED

College Station, TX, Easterwood Field, GPS RWY 16, Orig, CANCELLED

College Station, TX, Easterwood Field, GPS RWY 28, Orig, CANCELLED

College Station, TX, Easterwood Field, GPS RWY 34, Orig-A, CANCELLED

Eagle Lake, TX, Eagle Lake, RNAV (GPS) RWY 17, Orig

Eagle Lake, TX, Eagle Lake, RNAV (GPS) RWY 35, Orig

Eagle Lake, TX, Eagle Lake, VOR RWY 17, Amdt 5

El Paso, TX, El Paso Intl, VOR RWY 26L, Amdt 30

Houston, TX, William P. Hobby, NDB RWY 4, Amdt 33, CANCELLED

Lawrenceville, VA, Lawrenceville/Brunswick Muni, RNAV (GPS) RWY 18, Orig

Lawrenceville, VA, Lawrenceville/Brunswick Muni, RNAV (GPS) RWY 36, Orig

Sheboygan, WI, Sheboygan County Memorial, RNAV (GPS) RWY 3, Orig

Sheboygan, WI, Sheboygan County Memorial, RNAV (GPS) RWY 13, Orig

Sheboygan, WI, Sheboygan County Memorial, RNAV (GPS) RWY 31, Orig

Sturgeon Bay, WI, Door County Cherryland, NDB RWY 2, Amdt 11

Sturgeon Bay, WI, Door County Cherryland, SDF RWY 2, Amdt 7

Sturgeon Bay, WI, Door County Cherryland, RNAV (GPS) RWY 2, Orig

Sturgeon Bay, WI, Door County Cherryland, RNAV (GPS) RWY 10, Orig

Sturgeon Bay, WI, Door County Cherryland, RNAV (GPS) RWY 20, Orig

Sturgeon Bay, WI, Door County Cherryland, RNAV (GPS) RWY 28, Orig

Afton, WY, Afton Muni, RNAV (GPS) RWY 16, Amdt 1

Afton, WY, Afton Muni, RNAV (GPS) RWY 34, Amdt 1

The FAA published several Amendments in Docket No. 30424, Amdt No. 3105 to Part 97 of the Federal Aviation Regulations (Vol 69, FR No. 181, Pages 56161-56163; dated Monday, September 20, 2004) under Section 97.33 effective November 25, 2004 which are hereby rescinded in their entirety:

Payson, AZ, Payson, RNAV (GPS)-A, Amdt 1A

Inyokern, CA, Inyokern, RNAV (GPS) Y RWY 2, Orig-A

Battle Mountain, NV, Battle Mountain, RNAV (GPS) RWY 3, Orig-A

[FR Doc. 04-22945 Filed 10-14-04; 8:45 am]

BILLING CODE 4910-13-P